DEPARTMENT OF THE INTERIOR

Fish and Wildlife Service

Reopening of Public Comment Period for the Technical/Agency Draft Revised Recovery Plan for the Red-Cockaded Woodpecker (Picoides borealis)

AGENCY: Fish and Wildlife Service, Interior.

ACTION: Notice of reopening of public comment period.

SUMMARY: We, the Fish and Wildlife Service, announce that we are reopening the comment period for the Technical/Agency Draft Revised Recovery Plan for the Red-cockaded Woodpecker. We are reopening the comment period to enter into the record a revised “Recovery Units” section that discusses our approach to conducting jeopardy analyses as part of interagency consultation under section 7 of the Endangered Species Act. We solicit review and written comments from the public on this section of the recovery plan.

DATES: We must receive comments by December 23, 2002.

ADDRESSES: You may obtain a copy of the technical/agency draft revised recovery plan (July 2000) by downloading or printing a copy from http://rcwrecovery.fws.gov (under the recovery plan link). If you wish to comment, you may submit your comments by any one of several methods:

1. You may submit written comments to the Field Supervisor, Clemson Field Office, U.S. Fish and Wildlife Service, Clemson University, Clemson, South Carolina 29634 (telephone 864/656-2432).

2. You may fax your comments to the Field Supervisor at 864/656-1350.

3. You may send comments by electronic mail to the Field Supervisor at ralph_costa@fws.gov

Comments and materials received are available upon request for public inspection, by appointment, during normal business hours at the above address.

FOR FURTHER INFORMATION CONTACT: Mr. Ralph Costa (see ADDRESSES section).

SUPPLEMENTARY INFORMATION:

Background

Red-cockaded woodpeckers (RCW) are endemic to mature pine woodlands of the southeastern United States. Because of habitat loss and alteration associated with clearing forests for settlements, agriculture, and commercial forestry operations, during the later part of the 19th century and early part (through the 1930s) of the 20th century, the RCW suffered severe population declines. We officially listed the RCW as an endangered species on October 13, 1970 (35 FR 16047). The original recovery plan for the RCW was approved on August 24, 1979, and subsequently revised on April 11, 1985. Research has greatly increased our understanding of the ecology of the RCW to the point where we now have management tools that have proven successful in increasing the acres of optimum RCW habitat, and RCW numbers, in the past decade. The draft revised recovery plan developed in July 2000 (65 FR 55269) describes the ecology and management of red-cockaded woodpeckers in detail and outlines the management necessary to recover the species based on new insight into population viability.

Section 7(a)(2) of the Endangered Species Act of 1973, as amended (Act) (16 U.S.C. 1531 et seq.) requires Federal agencies to consult with us to ensure that the actions they authorize, fund, or carry out will not jeopardize the continued existence of a federally listed species. To jeopardize means to engage in an action that reasonably would be expected, directly or indirectly, to reduce appreciably the likelihood of both the survival and recovery of a listed species in the wild by reducing the reproduction, numbers, or distribution of that species (50 CFR 402.02). The majority of Federal actions that we consult on are not found to jeopardize listed species. In most consultations, the proposed action is not found to jeopardize the listed species although some incidental take of the species may occur. In those cases, we work with the Federal agency to devise reasonable and prudent measures that will minimize the effects of such incidental take to the species. In the few cases where we determine that a proposed federal project would jeopardize a listed species, we work with the Federal agency to determine reasonable and prudent project alternatives.

In analyzing whether or not the proposed project will jeopardize a listed species, our general policy, as outlined in our Consultation Handbook (Procedures for Conducting Consultation and Conference Activities Under Section 7 of the Endangered Species Act, March 1998) is to analyze the total impacts of the proposed project on the entire species (or the entire subspecies or vertebrate population if the listed entity is a subspecies or vertebrate population). However, for some wide-ranging species, or those with disjunct or fragmented distributions, we may perform this analysis by recovery units. Recovery units are geographic or otherwise identifiable subunits of the listed entity that individually are necessary to conserve genetic robustness, demographic robustness, important life stages, or some other feature necessary for long-term sustainability of the overall listed entity. Therefore, an action that would jeopardize a recovery unit would jeopardize the species. Defining the value of each recovery unit to the whole in the recovery plan, therefore, simplifies the analysis of whether the action jeopardizes the species. In these species, we may base our jeopardy analyses on assessment of impacts to an individual recovery unit determined as necessary to both the survival and recovery of the species in a final recovery plan. The red-cockaded woodpecker is a wide-ranging species with a fragmented distribution and as such, we have determined that the establishment of recovery units would facilitate jeopardy analyses under section 7.

In the draft revised Recovery Plan, we have defined primary and secondary core populations and essential, significant, and important support populations. Some or all of these types of populations may occur within a recovery unit. A primary core population is one that will harbor at least 350 potential breeding groups at the time of delisting. Populations of this size are above minimum estimates necessary to withstand threats of extirpation from demographic stochasticity, environmental stochasticity, and inbreeding depression. However, even a population of less than 350 breeding groups is not considered capable of retaining sufficient genetic variability for long-term viability in the absence of immigration. Secondary core populations are those that will harbor at least 250 potential breeding groups at the time of delisting. A population of 250 breeding groups is the minimum estimate considered necessary to withstand threats of extirpation from environmental stochasticity, and is considered highly robust to threats from demographic stochasticity and inbreeding depression. These populations are not large enough to withstand threats to long-term viability from the process of genetic drift unless immigration is maintained (naturally or via translocation).

All populations not designated a primary or secondary core are designated support populations. There are three classifications of support populations—essential, significant, and important. Essential support populations are those populations, identified in downlisting and delisting recovery criteria, that represent unique habitat types and/or geographic locations within the historic range that cannot support a larger, core population. These populations will harbor 15 to 100 potential breeding groups at the time of delisting. Significant support populations are populations, not identified in recovery criteria, that contain or have a population goal of 10 or more potential breeding groups. A population size of 10 potential breeding groups, if highly aggregated in space, has a good probability of persistence over a 20-year time period. Important support populations are populations, not identified in recovery criteria, that contain and/or have a population goal of less than 10 potential breeding groups.

Support populations are important reservoirs of genetic resources. They help represent natural variation in habitats occupied by RCWs. Support populations are an important source of immigrants for core populations to increase retention of genetic variation and could potentially provide a buffer against stochastic loss of core populations. These functions are especially critical now, because many core populations are currently well below the population sizes necessary to withstand threats of environmental, demographic, and genetic uncertainty.

The 13 primary core populations, 12 secondary core populations, and numerous support populations of RCWs are well distributed throughout the species' range, within the 11 recovery units. This widespread distribution serves several critical ecological objectives. First, such a distribution conserves RCWs in varied habitats and geographic regions in which they currently exist. Second, the wide distribution and relatively high number of populations reduces the threat of species extinction from catastrophic events such as hurricanes. Finally, core populations, along with support populations, together create a network which, when population goals are reached, will facilitate the natural dispersal among populations and recovery units that is necessary and critical to long-term genetic viability.

The following text is the portion of the Recovery Plan that we have revised to clarify how we will analyze whether a proposed action will jeopardize the continued existence of the species.

Recovery Units

Recovery Units are geographic or otherwise identifiable subunits of the listed entity that individually are necessary to conserve genetic robustness, demographic robustness, important life history stages, or some other feature necessary for long-term sustainability of the overall listed entity. The Recovery units established for red cockaded-woodpeckers are a surrogate for likely genetic variation and adaptation to local environments, because they are based on changing environmental conditions, i.e., they are geographic areas delineated according to ecoregions. Substantial genetic variation has been documented in red-cockaded woodpeckers across their range, although distinct boundaries for this variation have not been identified. Red-cockaded woodpeckers exhibit a correlation between genetic variation and geographic distance, meaning the farther apart populations are geographically, the larger the genetic variation. This has been documented using both randomly amplified polymorphic DNA (used as a genetic marker) and allozyme data. As molecular markers gain resolution, we may be able to identify more distinct genetic boundaries, but the correlation between genetic variation and geographic distance is a classic sign of species that were once distributed primarily as a continuous population.

The names of red-cockaded woodpecker recovery units are the same as their respective ecoregion, with one exception (South/Central Florida). There are eleven designated recovery units for red-cockaded woodpeckers. All but two recovery units contain one or more core recovery populations and one or multiple support populations. The remaining two recovery units contain support populations only.

Maintaining viable populations within each recovery unit is essential to the survival and recovery of the red-cockaded woodpecker across its range. Conservation of populations in all habitats, forest types, and ecoregions, represented within and by recovery units is critical to the species survival and recovery primarily because these varied populations have crucial ecological and genetic values. The loss, or reduction of the likelihood of survival and recovery, of core and essential support populations within one or more of the designated recovery units could not only jeopardize the recovery goals for the individual recovery unit(s), but also jeopardize the recovery of the entire species in several ways.

First, without immigration, no red-cockaded woodpecker population will be large enough to avoid loss of genetic variability through genetic drift. Genetic drift results in loss of genetic variation, which may reduce a species' ability to adapt and persist in a changing environment (ecoregion), and thereby reduce its viability over long time periods. One practical way to reduce the threat of genetic drift is to promote immigration, both natural (dispersal) and artificial (via translocation). Multiple recovery units, harboring all of the habitat types and representing all ecoregions where the red-cockaded currently exists, provide the means to ensure that natural and artificial immigration can occur and be managed, respectively.

Second, the vast majority of red-cockaded woodpecker populations are threatened today by demographic stochasticity and will remain so for the foreseeable future. Therefore, the short-term survival of many individual populations in most recovery units is dependent upon translocated birds from other recovery units. Because donor populations for many small (less than 30 potential breeding groups), at-risk populations are in adjacent recovery units, actions adversely affecting donor populations in one recovery unit can jeopardize the survival and recovery of populations in other recovery units, thereby jeopardizing the entire species.

A third and significant threat to red-cockaded woodpecker populations are catastrophes, including hurricanes and outbreaks of southern pine beetles, which point to several reasons for identifying and conserving multiple recovery units. First, red-cockaded woodpecker populations in similar habitats/forest types and with more closely related genetic makeup may occur in recovery units adjacent to those impacted by the catastrophic event, thus helping ensure that the ability of the species to adapt to these ecological conditions of habitat and forest type would be protected. Second, by maintaining a number of recovery units, with their associated populations, that are broadly spaced geographically, and including as many inland populations as possible, the threat from catastrophic loss is significantly reduced. Additionally, when losses do occur in one recovery unit, other recovery units can be relied upon to supply birds for population restoration programs, thereby ensuring the continued likelihood of survival and recovery of the species.

To achieve and maintain species viability, we must maintain a network of interacting populations within and between recovery units. This strategy will promote natural immigration from support and core populations, over the long-term, within and between recovery units, thereby reducing the species susceptibility to loss of genetic viability through genetic drift. If, in the future, natural immigration rates are determined to be inadequate to reach or maintain genetic variability, artificial immigration (via translocation) within and between recovery units will be necessary to ensure the survival and recovery of the red-cockaded woodpecker. Similarly, the recovery unit system provides the means today and into the future to overcome the threats of demographic stochasticity via translocation of birds. Additionally, the recovery unit system provides the opportunity to respond aggressively to stabilize and restore recovery units and populations impacted by catastrophic events. Thus, the system of recovery units, with respective primary core, secondary core, and support populations, provides the foundation of the strategy to recover the red-cockaded woodpecker.

Recovery Units as the Basis for Jeopardy Analysis in Interagency Consultation

In the past, exceptions from applying the jeopardy standard (see “Background” section) to an entire species were granted by a Director's memorandum, dated March 3, 1986, for specific populations of a species. Since the mid-1980's, in compliance with the Director's 1986 memorandum, we conducted jeopardy analyses for the red-cockaded woodpecker at the “population” level.

Our guidance on this topic changed with the release of our Consultation Handbook in 1998. The Handbook states that when determining whether the action jeopardizes the continued existence of the species, we are to analyze the total impacts of the proposed project on the entire species. However, the Handbook acknowledges that for some wide-ranging species, this analysis can be facilitated by the establishment of recovery units in a final recovery plan. The Consultation Handbook notes that species' recovery plans provide the best available scientific information relative to the areas and environmental elements needed for the species to recover, and may even describe recovery units essential to recovering the species. Given that actions that appreciably impair or preclude the capability of such a recovery unit from providing the survival and recovery functions identified for it in a recovery plan may therefore represent jeopardy to the species, the Consultation Handbook indicates the jeopardy standard may be applied to individual recovery units identified as necessary for survival and recovery of the species in an approved final recovery plan. Thus, the designation of recovery units in recovery plans facilitates recovery both by focusing the species' recovery program on the need to conserve the geographic, demographic, and genetic features of the recovery unit for its contribution to the whole species, and by facilitating the evaluation of potential jeopardy to the species when the survival and recovery of an individual recovery unit is in question.

Previous Federal Action

On September 13, 2000, we published in the Federal Register a notice of availability of the Technical/Agency Draft Revised Recovery Plan for the Red-cockaded Woodpecker (Picoides borealis) for review and comment (65 FR 55269). On October 17, 2000, we published a notice to extend the public comment period for the Technical/Agency Draft Revised Recovery Plan for the Red-cockaded Woodpecker (Picoides borealis) (65 FR 61355). The public review and comment period ended on December 13, 2000. We subsequently have revised the “Recovery Units” section to discuss our approach to conducting jeopardy analyses as part of interagency consultation under section 7 of the Act.

Public Comments Solicited

We solicit written comments on the “Recovery Unit” section of the recovery plan as discussed above. We will consider all comments regarding recovery units received by the date specified in the DATES section, prior to approval of the plan.

Our practice is to make comments, including names and home addresses of respondents, available for public review during regular business hours. Respondents may request that we withhold their home address, which we will honor to the extent allowable by law. There also may be circumstances in which we would withhold a respondent's identity, as allowable by law. If you wish for us to withhold your name and/or address, you must state this request prominently at the beginning of your comment. However, we will not consider anonymous comments. To the extent consistent with applicable law, we will make all submissions from organizations or businesses, and from individuals identifying themselves as representatives or officials of organizations or businesses, available for public inspection in their entirety.

Author

The primary author of this notice is Ralph Costa (see ADDRESSES section).

Authority

The authority for this action is section 4(f) of the Endangered Species Act, 16 U.S.C. 1533 (f).

Dated: October 22, 2002.
J. Mitch King,
Acting Regional Director, Fish and Wildlife Service.

[FR Doc. 02-29565 Filed 11-20-02; 8:45 am]

BILLING CODE 4310-55-P